ENVIRONMENTAL PROTECTION AGENCY

[OPP-2002-0023; FRL-6834-4]

Dimethoate Product Cancellation Order and Label Amendment; Technical Correction

AGENCY: Environmental Protection Agency (EPA).

ACTION: Notice; technical correction.

SUMMARY: EPA issued a cancellation order in the Federal Register of March 13, 2002 eliminating the residential uses for Dimethoate. This document is being issued to correct the existing stocks provisions of this cancellation order.

DATES: The cancellations became effective March 13, 2002.

FOR FURTHER INFORMATION CONTACT: By mail: Patrick Dobak, Special Review and Reregistration Division (7508C), Office of Pesticide Programs, Environmental Protection Agency, 1200 Pennsylvania Ave., NW., Washington, DC 20460; telephone number: 703-308-8180; e-mail address: dobak.pat@epa.gov.

SUPPLEMENTARY INFORMATION:

I. Does this Action Apply to Me?

The Agency included in the cancellation order a list of those who may be potentially affected by this action. If you have questions regarding the applicability of this action to a particular entity, consult the person listed under FOR FURTHER INFORMATION CONTACT.

II. How Can I Get Additional Information, Including Copies of this Document and Other Related Documents?

1.Electronically. You may obtain electronic copies of this document, and certain other related documents that might be available electronically, from the EPA Internet Home Page at http://www.epa.gov. To access this document, go to the Federal Register listings at http://www.epa.gov/fedrgstr.

2. In person. The Agency has established an official record for this action under docket control number OPP-2002-0023. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

III. What Does this Technical Correction Do?

The cancellation order for uses of pesticide products containing Dimethoate on various commodities was published in the Federal Register on March 13, 2002 (67 FR 11330) (FRL-6828-1). The existing stocks language in Unit IV is not consistent with the proposed existing stocks provisions included in the January 10, 2002 proposed Cancellation Order. The following Unit IV replaces Unit IV of the Cancellation Order published on March 13, 2002. The replacement language is consistent with the language in the January 10, 2002 proposed cancellation order. No comments were received by the Agency. The revised existing stocks provisions are as follows:

IV. Existing Stocks Provisions

1. Distribution or sale of products by the registrant bearing instructions for use on houseflies and non-agricultural use sites. The distribution or sale of existing stocks by the registrant of any product listed in Table 1 or 2 that bears instructions for any use identified in List 1, will not be lawful under FIFRA 1 year after the effective date of the cancellation order, except for the purposes of shipping such stocks for export consistent with section 17 of FIFRA or for proper disposal.

2. Distribution, sale, or use of products by persons other than the registrant bearing instructions for use on houseflies and non-agricultural use sites. Persons other than the registrant may continue to sell or distribute the existing stocks of any product listed in Table 1 or 2 that bears instructions for any of the uses identified in List 1 after the effective date of the cancellation order and may continue until such stocks are exhausted. The use of existing stocks by persons other than the registrant of any product listed in Table 1 or 2 that bears instructions for any uses identified in List 1 may continue until such stocks are exhausted.

List of Subjects

Environmental protection, Pesticides, Use cancellation order.

Dated: April 23, 2002.
Lois A. Rossi,
Director, Special Review and Reregistration Division.

[FR Doc. 02-10735 Filed 4-30-02; 8:45 am]

BILLING CODE 6560-50-S